DEPARTMENT OF ENERGY

Federal Energy Regulatory Commission

[Project No. 13-023]

Green Island Power Authority; Notice of Application Ready for Environmental Analysis, and Soliciting Comments, Recommendations, Preliminary Terms and Conditions, and Preliminary Fishway Prescriptions

January 20, 2010.

Take notice that the following hydroelectric application has been filed with the Commission and is available for public inspection.

a. Type of Application: New Major License.

b. Project No.: 13-023.

c. Date Filed: March 2, 2009.

d. Applicant: Green Island Power Authority.

e. Name of Project: Green Island Hydroelectric Project.

f. Location: The existing project is located on the Hudson River in Albany County, New York. The project would occupy Federal land managed by the U.S. Army Corps of Engineers.

g. Filed Pursuant to: Federal Power Act 16 U.S.C. 791(a)-825(r).

h. Agent Contact: James A. Besha, President, Albany Engineering Corporation, 5 Washington Square, Albany, NY 12205; (518) 456-7712.

i. FERC Contact: Tom Dean, (202) 502-6041.

j. The deadline for filing comments, recommendations, preliminary terms and conditions, and preliminary fishway prescriptions is 60 days from the issuance of this notice; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, preliminary terms and conditions, and preliminary fishway prescriptions may be filed electronically via the Internet in lieu of paper. The Commission strongly encourages electronic filings. See 18 CFR 385.2001(a)(1)(iii) and the instructions on the Commission's Web site (http://www.ferc.gov) under the “eFiling” link. For a simpler method of submitting text-only comments, click on “Quick Comment.”

k. This application has been accepted for filing and is ready for environmental analysis.

l. Project Description: The existing Green Island Project utilizes the U.S. Army Corps of Engineers (Corps) Green Island-Troy lock and dam that consists of: (1) A dam with a main spillway with a fixed crest elevation of 14.33 feet mean sea level (msl); (2) an auxiliary spillway with a crest elevation of 16.33 feet msl; and (3) a 520-foot-long, 45-foot-wide lock.

The Green Island Project consists of: (1) 2-foot-high pneumatic flashboards along the top of the main spillway with a crest elevation of 16.33 feet msl; (2) a 700-acre impoundment with a normal water surface elevation of 16.33 feet msl; (3) a bulkhead and forebay structure located downstream and at the west end of the Corps dam; (4) a powerhouse containing four 1.5 megawatt (MW) generating units with a total installed capacity of 6.0 MW; (5) a 34.5-kilovolt (kV) underground transmission cable; and (6) appurtenant facilities.

Green Island Power Authority proposes to: (1) Lower the existing main spillway to a crest elevation of 12.5 feet msl, and install new hydraulically operated crest gates with a maximum crest gate elevation of 18.5 feet msl; (2) increase the auxiliary spillway elevation to 18.4 feet msl; (3) raise the impoundment elevation to 18.4 feet msl and increase the impoundment size to 708 acres; (4) install a new trash boom extending across and upstream of the forebay; (5) expand the existing powerhouse to the east and west and install four new 6.0 MW generating units, and replace the four existing generating units with four new 6.0 MW generating units with a total installed capacity of 48 MW; and (6) install a new 13.8-kV, 70-foot-long transmission line.

On January 15, 2010, Green Island Power Authority filed a resource-specific settlement agreement signed by it and the National Marine Fisheries Service, U.S. Fish and Wildlife Service, and the New York State Department of Environmental Conservation. Under the settlement agreement, Green Island Power Authority would: (1) Construct two new Denil fish ladders for upstream passage; (2) construct a new fish exclusion screen and downstream fish passage facility; (3) construct three new eel ladders for upstream passage; and (4) develop plans for fishway effectiveness testing and monitoring, shortnose sturgeon monitoring and mitigation, and water quality and streamflow monitoring.

m. A copy of the application and settlement agreement are available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

Register online at http://www.ferc.gov/docs-filing/esubscription.asp to be notified via e-mail of new filings and issuances related to this or other pending projects. For assistance, contact FERC Online Support.

n. All filings must: (1) Bear in all capital letters the title “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of all other filings in reference to this application must be accompanied by proof of service on all persons listed in the service list prepared by the Commission in this proceeding, in accordance with 18 CFR 4.34(b) and 385.2010.

o. Procedural Schedule: The application will be processed according to the following Hydro Licensing Schedule. Revisions to the schedule may be made as appropriate.

Milestone | Target date
Notice of availability of the EA | July 29, 2010
Filing comments on EA | August 30, 2010
Filing modified terms and conditions | October 29, 2010

p. Final amendments to the application must be filed with the Commission no later than 30 days from the issuance date of the notice of ready for environmental analysis.

q. A license applicant must file no later than 60 days following the date of issuance of the notice ready for environmental analysis provided for in sections 5.22 and 5.23: (1) A copy of the water quality certification; (2) a copy of the request for certification, including proof of the date on which the certifying agency received the request; or (3) evidence of waiver of water quality certification.

Kimberly D. Bose,
Secretary.

[FR Doc. 2010-1531 Filed 1-26-10; 8:45 am]

BILLING CODE 6717-01-P